DEPARTMENT OF ENERGY

Federal Energy Regulatory Commission

[Docket No. RP01-255-000]

Cove Point LNG Limited Partnership; Notice of Tariff Filing

March 6, 2001.

Take notice that on March 1, 2001, Cove Point LNG Limited Partnership (Cove Point) tendered for filing as part of its FERC Gas Tariff, Second Revised Volume No. 1, First Revised Sheet no. 7, with a proposed effective date of April 1, 2001.

Cove Point states that the tariff sheet sets forth the restatement and adjustment to its retainage percentages, pursuant to the section 1.37 of the General Terms and Conditions of its FERC Gas Tariff, Second Revised Volume No. 1.

Cove Point states that copies of the filing is being served to its affected customers and interested State Commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at

http://www.ferc.fed.us/efi/doorbell.htm.

David P. Boergers,
Secretary.

[FR Doc. 01-6005 Filed 3-9-01; 8:45 am]

BILLING CODE 6717-01-M